DEPARTMENT OF HEALTH AND HUMAN SERVICES

Centers for Disease Control and Prevention

[60-Day-10-0753]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the Centers for Disease Control and Prevention's Consumer Response Service Center, CDC INFO. (OMB No. 0920-0753—Revision—Office of the Associate Director of Communication, Centers for Disease Control and Prevention (CDC).)

Background and Brief Description

In September 2005, the Centers for Disease Control and Prevention launched CDC-INFO, a consolidated, comprehensive effort to respond to consumer, provider and partner inquiries on a broad spectrum of public health topics by telephone, e-mail, fax, or postal mail. More than 40 nationwide public health hotlines and warm lines were consolidated into one central phone number using a phased approach from 2005 to 2008. Management of CDC-INFO services is increasingly guided by a comprehensive evaluation that includes point-of-service and follow-up customer satisfaction surveys. These surveys provide the public with ongoing opportunity to express their level of satisfaction and report how they have used this information. All members of the public, health care providers and businesses can contact CDC-INFO by phone, e-mail, or postal mail to request health information or order CDC publications.

CDC-INFO is a proactive, unified, and integrated approach to the delivery of public health information and is designed to contribute to improving the health and safety of the public. Customers are defined as any individual or group seeking health or public health information from CDC. This includes the public, media, medical and healthcare professionals, public health professionals, partner groups, businesses, researchers, and others. Customer interactions occur through multiple channels, e.g., telephone calls, e-mails, and postal mail. There are seven (7) potential evaluation points across three (3) major categories: consumer satisfaction, special event/outreach, and emergency response. All survey tools provide the participant an opportunity to decline and are available in English and Spanish.

These satisfaction surveys track the utility of CDC-INFO to the public at point of service and are integral for directing attention towards programs that are underperforming or receiving high endorsement, to understand the basis for disparity. Industry benchmarks for performance, including consumer satisfaction, were helpful for creating measures, and setting realistic expectations for performance. With the passage of time, the private sector has integrated new performance indicators for contact centers, and the suggested revisions reflect these innovations. These innovations and survey findings form the rationale for new question items and revised burden estimates. Minor changes were made to the research protocol to improve recruitment, and are discussed throughout the application where there is any implication for information privacy.

These evaluations have provided volumes of data, reports, and presentations on the progression of CDC-INFO, an innovative, multi-million dollar, Federal public health contact center. The outcome of this feedback is tangible, with the average number of incoming calls to CDC-INFO reaching new heights on an annual basis, and consumer satisfaction hovering around the best practice benchmark of 75 percent of callers participating in a satisfaction survey endorsing the highest level of satisfaction—very satisfied.

Sample size, respondent burden, and intrusiveness have been minimized to be consistent with national evaluation objectives. There is no cost to the respondent, other than the amount of time required to respond to the survey.

Estimated Annualized Burden Hours
Type of respondent | Form name | Number of respondents | Number of responses per respondent | Average burden per response (in hrs) | Total burden hours
General Callers | Satisfaction survey | 92,000 | 1 | 4/60 | 6,133
Email Inquirers | Satisfaction survey | 1,460 | 1 | 3/60 | 73
Callers (follow-up) | Follow-up survey | 5,290 | 1 | 9/60 | 794
General Public | Special event/Outreach survey | 5,120 | 1 | 7/60 | 597
Professionals | Special event/Outreach survey | 2,080 | 1 | 5/60 | 173
General Public | Emergency response survey—Level 1 | 8,288 | 1 | 5/60 | 691
Professionals | Emergency response survey—Level 1 | 1,658 | 1 | 5/60 | 138
General Public | Emergency response survey—Level 2 | 8,637 | 1 | 5/60 | 720
Professionals | Emergency response survey—Level 2 | 1,727 | 1 | 5/60 | 144
General Public | Emergency response survey—Level 3 | 35,185 | 1 | 5/60 | 2,932
Professional | Emergency response survey—Level 3 | 7,037 | 1 | 5/60 | 586
General Public | Emergency response survey—Level 4 | 129,126 | 1 | 5/60 | 10,761
Professional | Emergency response survey—Level 4 | 29,825 | 1 | 5/60 | 2,485
Total Burden Hours |  |  |  |  | 26,227

Dated: June 24, 2010.
Maryam I. Daneshvar,
Acting Reports Clearance Officer, Centers for Disease Control and Prevention.

[FR Doc. 2010-16200 Filed 7-1-10; 8:45 am]

BILLING CODE 4163-18-P